DEPARTMENT OF TRANSPORTATION

Office of the Secretary

Privacy Act of 1974: System of Records

AGENCY: Office of the Secretary, DOT.

ACTION: Notice to establish a system of records.

SUMMARY: DOT intends to establish a system of records under the Privacy Act of 1974.

EFFECTIVE DATE: December 11, 2002. If no comments are received, the proposal will become effective on the above date. If comments are received, the comments will be considered and, where adopted, the documents will be republished with changes.

FOR FURTHER INFORMATION CONTACT: Yvonne L. Coates, Department of Transportation, Office of the Secretary, 400 7th Street, SW., Washington, DC 20590, (202) 366-6964 (telephone), (202) 366-7024 (fax), Yvonne.Coates@ost.dot.gov (Internet address).

SUPPLEMENTARY INFORMATION: The Department of Transportation system of records notice subject to the Privacy Act of 1974 (5 U.S.C. 552a), as amended, has been published in the Federal Register and is available from the above mentioned address.

DOT/ALL 014

System name:

Docket Management System (DMS).

Security classification:

Unclassified, non-sensitive.

System location:

The system is located in Department of Transportation (DOT), Dockets and Media Management Center, Transportation Administrative Service Center, 400 7th Street, SW., Room PL-401, Washington, DC, 20590.

Categories of individuals covered by the system:

Individuals who participate in proceedings at the DOT that are covered by the Administrative Procedure Act (APA), and who provide information about their identities.

Categories of records in the system:

DOT rulemaking and related documents issued in informal rulemakings, and public comments thereon; non-rulemaking and related documents, and public comments thereon; in formal rulemakings, motions, petitions, complaints, and related documents and formal responses thereto.

Authority for maintenance of the system:

5 U.S.C. 551 et seq.

Purpose(s):

To facilitate involvement of the public in APA and related proceedings.

Routine uses of records maintained in the system, including categories of users and the purposes of such uses:

See Prefatory Statement of General Routine Uses.

Disclosure to consumer reporting agencies:

None.

Policies and practices for storing, retrieving, accessing, retaining, and disposing of records in the system:

Storage:

Electronically on a publicly-accessible website.

Retrievability:

Documents are retrievable through DMS by name and by docket number.

Safeguards:

Records are freely available to anyone.

Retention and disposal:

Paper copies are returned to the originating office upon transfer to electronic medium. Electronic version is retained indefinitely at the discretion of the DOT.

System manager(s) and address:

U.S. Department of Transportation, Chief, Dockets and Media Management Center (SVC-124), 400 7th Street, SW., Room PL-401, Washington, DC 20590.

Notification procedure:

Same as “System Manager.”

Record access procedures:

Same as “System Manager.”

Contesting record procedures:

Same as “System Manager.”

Record source categories:

Individuals participating in DOT APA proceedings.

Exemptions claimed for the system:

None.

Dated: October 18, 2002.
Yvonne L. Coates,
Privacy Act Coordinator.

[FR Doc. 02-27168 Filed 10-31-02; 8:45 am]

BILLING CODE 4910-62-P